DEPARTMENT OF AGRICULTURE

Agricultural Marketing Service

[Doc. No. AMS-FGIS-24-0062]

Geographic Areas for Official Grain Inspection Services

AGENCY: Agricultural Marketing Service, USDA.

ACTION: Notice.

SUMMARY: The Agricultural Marketing Service (AMS) is announcing updates to the boundaries of the geographic areas in which official service providers (OSP) perform official inspection and weighing services under a United States Grain Standards Act (USGSA) designation or delegation, and for purposes of cooperative service agreements under the Agricultural Marketing Act of 1946 (AMA). The updates are necessary due to changes in natural and man-made landmarks, railroad lines, roads, and signs that were used in historical boundary descriptions.

DATES: July 3, 2025.

FOR FURTHER INFORMATION CONTACT: Kendra Kline, Deputy Director, Federal Grain Inspection Service, AMS, USDA; Telephone: (202) 620-2410; Email: Kendra.C.Kline@usda.gov.

SUPPLEMENTARY INFORMATION: AMS's Federal Grain Inspection Service (FGIS) administers provisions of the USGSA and AMA that specify the conditions under which domestic grains, oilseeds, and legumes are sampled, inspected, weighed, and tested for domestic and export shipments. Under the provisions of these statutes, FGIS typically authorizes one OSP, through competitive application procedures, to perform official inspection services for customers within each geographic area of the United States as defined by the Secretary of Agriculture. This ensures effective and efficient delivery of official services to customers within each area and enhances the orderly marketing of grains, oilseeds, and legumes.

Where possible, the boundaries of the geographic areas follow state or county lines. Occasionally, geographic areas include only portions of counties in an effort to evenly distribute grain merchandising locations among geographic areas. This is more common in the grain belt where the need for inspection services is most concentrated. Over time, some boundaries were adjusted to recognize historical agreements or accommodate the needs of OSPs or their customers.

In some cases, geographic area boundaries have been defined by rivers, landmarks, or locally recognized roads within counties, rather than by state or county borders. Over the years, some of the landmarks, railroad lines, and roads that were used to define the boundaries of geographic areas have changed or disappeared, leaving some question as to the exact boundaries currently in use.

This notice announces the implementation of the updated boundaries of the geographic areas that were published in the Federal Register (90 FR 2664) on January 13, 2025. No comments were received during the designated comment period. Since the publication of the proposed geographic areas FGIS published a notice in the Federal Register (90 FR 17364) expanding the Memphis, Tennessee area in Texas. The area below has been updated accordingly. FGIS will update designation and delegation documents to reflect the updated geographic areas for OSPs. Any future changes will be announced in the Federal Register.

Updated Geographic Area Descriptions and Official Service Providers

The geographic areas described below are listed alphabetically by state. Some geographic areas include one or more entire states, or entire counties within a state. Several areas include territory in more than one state. Some areas include partial counties, divided by named highways, roads, or waterways. Where possible, geographic areas are defined by state or county lines. In cases in which an area includes only part of a county or counties, the boundaries are identified by reference to highways, roads, waterways, and other landmarks.

For uniformity in the descriptions below, highway and road designations follow typical naming conventions. For example, Interstate 80 is written “I-80,” U.S. Route 54 is written “US-54,” Iowa State Route 21 is written “IA-21,” and County Road 14 is written “CR-14.”

The current OSP for each area is identified below. In some cases, grain elevators or customers within defined geographic areas are historically served by other than the designated OSP for that area. Such exclusions are listed below the OSP identified for each area. Where ports for export shipments exist within a geographic area, the OSP for export inspection services in that area is listed.

Please note that FGIS also administers the AMA and its implementing regulations and instructions, including the provisions regarding cooperative agreements. Accordingly, this document also lists the geographic areas serviced under AMA cooperative agreements by three OSPs, namely, the Idaho State Department of Agriculture, Oregon Department of Agriculture, and Wyoming Department of Agriculture. The geographic areas are now identified by number. Numbers are assigned to the geographic areas in alphabetical order, first by state, then by county. Contact and other information, including the services offered by each OSP, is available on the AMS website at https://fgisonline.ams.usda.gov/MyFGIS/OSPDirectory/Index.

Area 1 (Formerly Known as State of Alabama)

Description: In Alabama: The entire state of Alabama.

Current Service Provider: Alabama Department of Agriculture and Industries.

Exports: All exports including export waterborne carriers/vessels are serviced by the Alabama Department of Agriculture and Industries.

Area 2 (Formerly Known as Casa Grande, Arizona)

Description: In Arizona: Maricopa, Pinal, Santa Cruz, and Yuma Counties.

In California: Imperial, Riverside, and San Diego Counties.

Current Service Provider: Farwell Commodity and Grain Services, Inc.

Exports: All export waterborne carriers/vessels are serviced by FGIS.

Area 3 (Formerly Known as Memphis, Tennessee)

Description: In Arkansas: The entire state of Arkansas.

In Mississippi: The entire state of Mississippi.

In Tennessee: Carroll, Chester, Crockett, Dyer, Fayette, Gibson, Hardeman, Haywood, Henderson, Lauderdale, Madison, McNairy, Obion (city of Kenton only) Shelby, and Tipton Counties.

In Texas: Aransas, Bee, Bowie, Brazoria, Brooks, Calhoun, Cameron, Cass, Chambers, Colorado, Dimmit, Duval, Fort Bend, Galveston, Goliad, Harris, Hidalgo, Jackson, Jefferson, Jim Hogg, Jim Wells, Kennedy, Kleberg, La Salle, Live Oak, Matagorda, McMullen, Nueces, Refugio, San Patricio, Starr, Victoria, Waller, Webb, Wharton, Willacy, and Zapata.

Current Service Provider: Midsouth Grain Inspection Service.

Exports: All export waterborne carriers/vessels are serviced by FGIS.

Area 4 (Formerly Known as West Sacramento, California)

Description: In California: Counties of Alameda, Alpine, Amador, Butte, Calaveras, Colusa, Contra Costa, Del Norte, El Dorado, Fresno, Glenn, Humboldt, Inyo, Kern, Kings, Lake, Lassen, Los Angeles, Madera, Marin, Mariposa, Mendocino, Merced, Modoc, Mono, Monterey, Napa, Nevada, Orange, Placer, Plumas, Sacramento, San Benito, San Bernardino, San Franciso, San Joaquin, San Luis Obispo, San Mateo, Santa Barbara, Santa Clara, Santa Cruz, Shasta, Sierra, Siskiyou, Solano, Sonoma, Stanislaus, Sutter, Tehama, Trinity, Tulare, Tuolumne, Ventura, Yolo, Yuba.

Current Service Provider: California Agri Inspection Company, Ltd.

Exports: Cal-Agri has a special agreement with FGIS to service AMA commodities transported on export waterborne carriers/vessels from the Penny-Newman export elevator in Stockton, CA. All USGSA commodities transported on export waterborne carriers/vessels from the Penny-Newman export elevator are serviced by FGIS.

Area 5 (Formerly Known as Topeka, Kansas)

Description: In Colorado: The entire state of Colorado.

In Kansas: The entire state of Kansas.

In Nebraska: Banner, Cheyenne, Deuel, Kimball, Morrill (west of US-385), and Scotts Bluff Counties.

In Wyoming: Goshen, Laramie, and Platt Counties.

Exclusion: The following grain elevator, which is located within the Topeka, Kansas, geographic area, is currently assigned to Hastings Grain Inspection, Inc.: Farmers Coop in the city of Big Springs, Nebraska, in Deuel County, Nebraska.

Current Service Provider: Kansas Grain Inspection Service, Inc.

Area 6 (Formerly Known as Belmond, Iowa)

Description: In Georgia: The entire state of Georgia.

In Iowa: Butler (north of CR C23, east of CR T47, north of CR C33, and west of IA-88), Cerro Gordo, Floyd (north of 280th St and west of Shadow Ave), Franklin (northwest of I-35, north of CR C55, west of CR S56, and north of CR C23), Hancock, Kossuth (east of US-169), Mitchell, Winnebago, Worth, and Wright (North of West Highway 3, east of US-17, north of Broadway St, east of South Kirkwood Ave, north of 5th St S, north of 270th Street, east of US-69, and northwest of I-35) Counties.

In Minnesota: Faribault, Freeborn, and Mower Counties.

In New Jersey: The entire state of New Jersey.

In New York: The entire state of New York.

In South Carolina: Abbeville, Aiken, Allendale, Anderson, Bamberg, Barnwell, Beaufort, Berkeley, Calhoun, Charleston, Clarendon, Colleton, Dorchester, Edgefield, Fairfield, Georgetown, Greenwood, Hampton, Jasper, Laurens, Lexington, McCormick, Newberry, Oconee, Orangeburg, Richland, Saluda, Sumter, and Williamsburg Counties.

Current Service Provider: D.R. Schaal Agency, Inc.

Exports: All export waterborne carriers/vessels are serviced by FGIS.

Area 7 (Formerly Known as Boise, Idaho)

Description: Commodity and/or rice inspections in the entire state of Idaho.

Current Service Provider: Idaho State Department of Agriculture.

Area 8 (Formerly Known as Pocatello, Idaho)

Description: In Idaho: Ada, Adams, Bannock, Bear Lake, Bingham, Blaine, Boise, Bonneville, Butte, Camas, Canyon, Caribou, Cassia, Clark, Custer, Elmore, Franklin, Fremont, Gem, Gooding, Jefferson, Jerome, Lemhi, Lincoln, Madison, Minidoka, Oneida, Owyhee, Payette, Power, Teton, Twin Falls, Valley, and Washington Counties.

Current Service Provider: Idaho Grain Inspection Service.

Area 9 (Formerly Known as Olympia, Washington)

Description: In Idaho: Benewah, Bonner, Boundary, Clearwater, Idaho, Kootenai, Latah, Lewis, Nez Perce, and Shoshone Counties.

In Oregon: The entire state of Oregon.

In Washington: The entire state of Washington.

Current Service Provider: Washington Department of Agriculture.

Exports: All export port locations within the Olympia, Washington, geographic area in the state of Oregon are serviced by FGIS, and in the state of Washington, by Washington Department of Agriculture.

Area 10 (Formerly Known as Essex, Illinois)

Description: In Illinois: Bureau (east of IL-40), Kankakee (west of I-57 and west of US-52), LaSalle (north of IL-17, north of IL-18 (west side of US-51) and east of US-51 (south of IL-18)), Grundy, Marshall (east of US-51, north of CR 14/IL-17; west of IL-26), Putnam (north of IL-18), Stark, Tazewell (west of IL-26 and IL-116 and north of I-74), Peoria (north of I-74), Will (west of I-57), and Woodford (west of IL-26) Counties.

Current Service Provider: Kankakee Grain Inspection, Inc.

Area 11 (Formerly Known as Urbana, Illinois)

Description: In Illinois (central section): Cass, Christian (the area west of CR22, south of CR 2600 N, west of CR 1500 E, south of CR 2500 N, west of N 1600 East Rd., south of E 2100 North Rd., west of IL-48 and N 1600 East Rd., north of CR 900 N, west of CR 1250 E/N 1250 East Rd., north of E 300 North Rd., and west of CR 1100 E), Greene, Logan (the area south of IL-10, west of 2000th Ave., north of CR 1500N, west of 1800th Ave., north of CR 1400 N, west of 1600th Ave., north of CR 1200 N, west of CR 1325 E, north of CR 1100 N, west of 1175th Ave., north of 950th St./CR 12, west of CR 937 E, south of 825th St., west of CR 950 E, north of CR 10/700th St., northwest of N Gillett St, and west of CR 600 E; and the area south and west of CR 11), Macoupin, Menard, Montgomery (west of CR 6, north of IL-16), Morgan, Pike (south and east of US-54 and IL-107, south of IL-104) Sangamon (the area west of Burrus Rd., south of McLaughlin Rd., west of Buffalo Hart Rd., south of Sherman Rd./CR 6 ½, west of Cornland Rd., south of Old Rte. 36, west of Lanesville Rd./CR 34, south of Mechanicsburg Illiopolis Rd./CR 33, west of CR 20 ¼ E/Mt. Auburn Rd./CR 57), Schuyler, and Scott Counties.

In Illinois (eastern section): Champaign, Clark, Coles, Crawford (north and east of IL-33), Douglas, Edgar, Ford, Iroquois, Kankakee (east of US-57 and US-45/US-52), Lawrence (east of IL-33 and north of US-50), Livingston (west of CR 10, south of IL-116, and west of IL-47), McLean (east of CR 13 north of IL-165, east of CR-15 between IL-165 and US-136), and east of CR 11 south of US-136), Piatt (north of US-72), Vermillion, and Will (east of US-57) Counties.

In Indiana: Benton, Clay, Elkhart, Fountain (west of US-41), Greene, Jasper, Lake, LaPorte, Marshall, Newton, Owen, Parke, Porter, Pulaski, Putnam, St. Joseph, Starke, Sullivan, Vigo, Warren, and White Counties.

In Michigan: Berrien, Cass, and St. Joseph Counties.

Current Service Provider: Champaign-Danville Grain Inspection Departments, Inc.

Exports: All export waterborne carriers/vessels are serviced by FGIS.

Area 12 (Formerly Known as Fargo, North Dakota)

Description: In Illinois: Bond, Calhoun, Clay, Clinton, Crawford (south of IL-33), Cumberland, Edwards, Effingham, Fayette, Franklin, Gallatin, Hamilton, Jackson (North of IL-3, IL-149, IL-13 and east of US-51)), Jasper, Jefferson, Jersey, Lawrence (west of IL-33 south to US-50), Madison, Marion, Monroe, Montgomery (south of IL-16, west and south of CR 6 to CR 7, east of CR 7, and south of CR 15), Perry, Randolph (north of IL-150 and northeast of IL-3), Richland, Saline, St. Clair, Wabash, Washington, Wayne, White, and Williamson Counties.

In Indiana: Adams, Allen, Bartholomew, Blackford, Boone, Brown, Carroll, Cass, Clinton, DeKalb, Delaware, Fayette, Fountain (east of U.S. Route 41), Fulton, Grant, Hamilton, Hancock, Hendricks, Henry, Howard, Huntington, Jay, Johnson, Kosciusko, LaGrange, Madison, Marion, Miami, Monroe, Montgomery, Morgan, Noble, Randolph, Rush (north of State Route 244), Shelby, Stueben, Tippecanoe, Tipton, Union, Wabash, Wayne, Wells, and Whitley Counties.

In Michigan: Clinton (east of US-127), Genesee, Huron (east of MI-53), Ingham (east of US-127), Jackson (east of US-127), Lapeer, Lenawee, Livingston, Macomb, Monroe, Oakland, Sanilac (east of MI-53 and south of MI-46), Shiawassee (south of MI-21 and east of MI-52), St. Clair, Tuscola (south of MI-46, east of Sheridan Road, south of Barnes Road, and east of MI-15), Washtenaw, and Wayne Counties.

In Minnesota: Aitkin, Becker, Carlton, Cass, Clay, Cook, Crow Wing, Hubbard, Itasca, Koochiching, Lake, Mahnomen, Norman, Otter Tail, St. Louis, Wadena, and Wilkin Counties.

In North Dakota: Barnes (east of ND-1 north and south of I-94), Cass, Dickey (east of ND-1), Griggs (south and east of ND-45, east of ND-1 and south of ND-200), LaMoure (east of ND-1), Ransom, Richland, Sargent, Steele, and Traill Counties.

In Ohio: Adams (northeast of OH-73), Ashland, Ashtabula, Athens, Belmont, Carroll, Champaign (east of Valley Pike Road, east of OH-560 and north of US-36), Clark (east of US-68), Clinton (east of OH-73, north of US-22, east of US-68), Columbiana, Coshocton, Crawford, Cuyahoga, Darke, Delaware, Erie, Fairfield, Fayette, Franklin, Gallia, Geauga, Greene (east of US-68), Guernsey, Hancock, Hardin (east of US-68), Harrison, Highland (east of OH-73), Hocking, Holmes, Huron, Jackson, Jefferson, Knox, Lake, Lawrence, Licking, Logan (south of OH-47, east of US-68), Lorain, Lucas, Madison, Mahoning, Marion, Medina, Meigs, Monroe, Morgan, Morrow, Muskingum, Noble, Ottawa, Perry, Pickaway, Pike, Portage, Richland, Ross, Sandusky, Scioto, Seneca, Shelby (east of I-75, southeast of OH-47, includes all of Sidney, OH), Stark, Summit, Trumbull, Tuscarawas, Union, Vinton, Washington, Wayne, Wood, and Wyandot Counties.

Current Service Provider: North Dakota Grain Inspection Service, Inc.

Exports: All export waterborne carriers/vessels are serviced by FGIS unless under special agreement. The Wisconsin Department of Agriculture Trade and Consumer Protection services the port of Duluth in Minnesota via special agreement with FGIS.

Area 13 (Formerly Known as Keokuk, Iowa)

Description: In Illinois: Adams, Brown, Fulton, Hancock, Mason, McDonough, and Pike (northwest of US-54 northeast to IL-107; IL-107 northeast to IL-104; IL-104 east to the eastern Pike County line) Counties.

In Iowa: Davis, Lee, and Van Buren Counties.

Current Service Provider: Keokuk Grain Inspection Service.

Area 14 (Formerly Known as Cedar Rapids, Iowa)

Description: In Iowa: Allamakee, Benton, Black Hawk (east of CR V49, south of CR D38, east of IA-21), Buchanan, Cedar (north of IA-130, east of IA-38, and north of I-80), Clayton, Clinton, Fayette, Jackson, Johnson (north of I-80), Iowa (north of I-80), Jones, Linn, Poweshiek (north of I-80 and east of US-63), Tama (east of IA-21, south of IA-8, south and east of US-63) and Winneshiek Counties.

In Illinois: Carroll, Christian (east of CR 1100E, south of 300N, east of CR 1, south of CR 8, east of 1600E, southeast of IL-48, east of CR 1800E, north of 2100N, east of 1600E, north of 2500N, east of 1500E, north of 2600N, east of CR 22), De Witt, LaSalle (south of IL-18, west of US-51 and south of IL-17), Livingston (west of IL-47, north of IL-116, west of CR 10), Logan (northeast of Burrus (aka CR 9 N), east of CR 600E, southeast of Gillett Street in Elkhart, south of CR 10, east of 950th Avenue, north of 825th Street, south of CR 12, east of CR 1175E, south of CR 1100N, east of CR 1325E, south of CR 1200N, east of 1800th Avenue, south of CR 1500N, east of 200th Avenue, and north of IL-10), Macon, Marshall (east of IL-26, west of US-51, south of CR 14 and south of IL-17), McLean (west of CR 13, north of E 2600 North Road, west of CR 15, and south of US-136, east of CR 11), Montgomery (east of CR 6, north of IL-16, east and north of CR 6, south of IL-16, west of CR 7, and north of CR 15), Moultrie, Piatt (south of I-72), Putnam (east of CR 26, south of IL-18), Sangamon (east of CR 57, north of CR 33, east of CR 34, south of CR 631, east of Cornland Road, north of Sherman Road, east of Buffalo Hart Road), Shelby, Tazewell (south of I-74, south and east of IL-116, east of IL-26), Peoria (south of I-74), Whiteside, and Woodford (east of IL-26) Counties.

In Minnesota: Fillmore, Houston, Olmstead, Wabasha, and Winona Counties.

Exclusions: The following grain elevators, which are located within the Cedar Rapids, Iowa, geographic area, are currently assigned to Champaign-Danville Grain Inspection Departments, Inc., for official inspection services: East Lincoln Farmers Grain Co. in the city of Lincoln, Illinois, in Logan County, Illinois; Okaw Cooperative in the city of Cadwell, Illinois, in Moultrie County, Illinois; ADM in the city of Farmer City, Illinois, in Dewitt County, Illinois; and Topflight Grain Company in the city of Monticello, Illinois, in Piatt County, Illinois.

Current Service Provider: Mid-Iowa Grain Inspection, Inc.

Area 15 (Formerly Known as Davenport, Iowa)

Description: In Illinois: Northern Area: Boone, Cook, DeKalb, DuPage, Jo Daviess, Kane, Kendall, Lake, Lee, McHenry, Ogle Stephenson, and Winnebago Counties. Midwestern Area: Bureau (west of IL-40), Henderson, Henry, Knox, Mercer Rock Island, and Warren Counties.

In Iowa: Northern Area: Delaware and Dubuque Counties. Southern Area: Cedar (south of I-80, east of IA-38, and south of IA-130), Des Moines, Henry, Iowa (south of I-80), Jefferson, Johnson (south of I-80), Keokuk, Louisa, Muscatine, Scott, Wapello, and Washington Counties.

In Wisconsin: The entire state of Wisconsin, for domestic services.

Current Service Provider: Eastern Iowa Grain Inspection and Weighing Service, Inc.

Exports: All export waterborne carriers/vessels are serviced by FGIS unless under special agreement. In the state of Wisconsin, Milwaukee is serviced by FGIS under special agreement and Superior is serviced by the Wisconsin Department of Agriculture under special agreement.

Area 16 (Formerly Known as Wickliffe, Kentucky)

Description: In Illinois: Alexander, Hardin, Jackson (south of IL-3, IL-149, IL-13 and west of IL-51), Johnson, Massac, Pope, Pulaski, Randolph (south of IL-150 and southwest of IL-3), and Union Counties.

In Kentucky: Ballard, Calloway, Carlisle, Fulton, Graves, Hickman, Livingston, Lyon, Marshall, McCracken, and Trigg Counties.

In Tennessee: Benton, Dickson, Henry, Houston, Humphreys, Lake, Montgomery, Obion (except the city of Kenton), Stewart, and Weakley Counties.

Exclusion: The following grain elevator, which is located within the Wickliffe, Kentucky, geographic area, is currently assigned to Midsouth Grain Inspection Service: Cargill, Inc. in the city of Tiptonville, Tennessee, in Lake County, Tennessee.

Current Service Provider: Cairo Grain Inspection Agency, Inc.

Area 17 (Formerly Known as Cincinnati, Ohio)

Description: In Indiana: Dearborn, Decatur, Franklin, Ohio, Ripley, Rush (south of IN-244), and Switzerland Counties.

In Kentucky: Bath, Boone, Bourbon, Bracken, Campbell, Clark, Fleming, Gallatin, Grant, Harrison, Kenton, Lewis (west of KY-59 and Main Street across the Ohio River to the Adams County line), Mason, Montgomery, Nicholas, Owen, Pendleton, and Robertson Counties.

In Ohio: Adams (southwest of OH-73), Brown, Butler, Champaign (south of US-36 and west of OH-55), Clark (west of I-68), Clermont, Clinton (west of US-68, south of ND-22, and west of OH-73), Greene (west of US-68), Hamilton, Highland (west of OH-73), Miami, Montgomery, Preble, and Warren Counties.

Current Service Provider: Tri-State Grain Inspection Service, Inc.

Area 18 (Formerly Known as Owensboro, Kentucky)

Description: In Indiana: Clark, Crawford, Floyd, Harrison, Jackson, Jefferson, Jennings, Lawrence, Martin, Orange, Perry, Scott, Spencer, and Washington Counties.

In Kentucky: Allen, Anderson, Barren, Breckinridge, Bullitt, Butler, Carroll, Daviess, Edmonson, Fayette, Franklin, Grayson, Hancock, Hardin, Hart, Henry, Hopkins (north of Wendell H. Ford Western Kentucky Parkway/I-69, east of KY-109 and CR 814), Jefferson, Jessamine, Larue, McLean, Meade, Muhlenberg, Nelson, Ohio, Oldham, Scott, Shelby, Simpson, Spencer, Trimble, Warren, Webster (east of Alternate US-41 and CR 814), and Woodford Counties.

In Tennessee: Anderson, Bedford, Bledsoe, Blount, Bradley, Campbell, Cannon, Carter, Claiborne, Clay, Cocke, Coffee, Cumberland, DeKalb, Fentress, Franklin, Giles, Grainger, Greene, Grundy, Hamblen, Hamilton, Hancock, Hawkins, Jackson, Jefferson, Johnson, Knox, Lincoln, Loudon, Macon, Marion, Marshall, Maury, McMinn, Meigs, Monroe, Moore, Morgan, Overton, Pickett, Polk, Putnam, Rhea, Roane, Rutherford, Scott, Sequatchie, Sevier, Smith, Sullivan, Sumner, Trousdale, Unicoi, Union, Van Buren, Warren, Washington, White, Williamson, and Wilson Counties.

Current Service Provider: J.W. Barton Grain Inspection Service, Inc.

Area 19 (Formerly Known as Evansville, Indiana)

Description: In Indiana: Daviess, Dubois, Gibson, Knox (except the area west of US-41 and north of US-50), Pike, Posey, Vanderburgh, and Warrick Counties.

In Kentucky: Caldwell, Christian, Crittenden, Henderson, Hopkins (west of KY-109 south of the Wendell H Ford Western Kentucky Parkway), Logan, Todd, Union, and Webster (west of US-41A and CR 814) Counties.

In Tennessee: Cheatham, Davidson, and Robertson Counties.

Current Service Provider: Ohio Valley Grain Inspection, Inc.

Area 20 (Formerly Known as Sioux City, Iowa)

Description: In Iowa: Adair, Adams, Appanoose, Audubon, Black Hawk (west of CR V49 to CR D38, north of CR D38 to IA-21, west of IA-21), Boone, Bremer, Buena Vista, Butler (south of CR C23, west of CR T47, south of CR C33, east of CR T64), Calhoun, Cass, Cherokee, Chickasaw, Clarke, Clay, Dallas, Decatur, Dickinson, Emmet, Floyd (east of Shadow Ave. and south of 280th St), Franklin (Interstate 35 northeast to C55; C55 east to S41; S41 north to State Route 3; State Route 3 to east U.S. Route 65; U.S. Route 65 north to C25; C25 east to S56; S56 north to C23; C23 east to T47), Greene, Grundy, Guthrie, Hamilton, Hardin, Howard, Humboldt, Ida, Jasper, Kossuth (west of US-169,), Lucas, Lyon, Madison, Mahaska, Marion, Marshall, Monona (north of IA-37 and IA-175), Carroll (east of US-71), Monroe, Montgomery (east of IA-48 and CR/M 47), O'Brien, Osceola, Palo Alto, Plymouth, Pocahontas, Polk, Poweshiek (west of US-63 to I-80, south of I-80), Ringgold, Sac, Sioux, Story, Tama (west of IA-21 and north of IA-8, north and west of IA-63), Taylor, Union, Warren, Wayne, Webster, Woodbury, and Wright (South of West Highway 3, west of US-17, south of East Broadway St, west of South Kirkwood Ave, south of SE 5th St S, south of 270th Street, west of US-69, and southeast of I-35) Counties.

In Minnesota: Cottonwood, Jackson, Lincoln, Lyon, Martin, Murray, Nobles, Pipestone, Redwood, Renville, Rock, and Yellow Medicine Counties.

In Nebraska: Cedar, Dakota, Dixon, Pierce (north of US-20), and Thurston Counties.

In South Dakota: Bon Homme, Charles Mix (south of SD-44), Clay, Douglas (south of SD-44), Hutchinson (south of SD-44), Lincoln (south of SD-44, west of I-29, south of US-18, west of SD-11, south of CR 140 (288th St.), and east of 486th Ave. South), Turner (south of SD-44), Union, and Yankton Counties.

Exclusions: The following grain elevators, which are located within the Sioux City, Iowa, geographic area, are currently assigned to Omaha Grain Inspection Service, Inc.: Scoular Elevator in the city of Elliot, Iowa, in Montgomery County, Iowa, and two Scoular elevators in the city of Griswold, Iowa, in Cass County, Iowa.

Current Service Provider: Sioux City Inspection and Weighing Service Company.

Area 21 (Formerly Known as Fremont, Nebraska)

Description: In Iowa: Carroll (west of US-71), Crawford, Harrison (east of IA-183 to IA 127 to Loess Hills Trail), and Shelby Counties.

In Nebraska: Burt, Butler, Colfax, Cuming, Dodge, Madison (east of US-81), Pierce (east of US-81 and south of US-20), Platte, Polk, Saunders (west of US-77), Stanton, Washington (north of State Route 91), and Wayne Counties.

Exclusions: The following grain elevators, which are located within the Fremont, Nebraska, geographic area, are currently assigned to the following service providers for official inspection services: Hastings Grain Inspection Service, Inc.: Huskers Cooperative Grain Company in the city of Columbus, Nebraska in Platte County, Nebraska; Omaha Grain Inspection Service, Inc.: Central Valley Ag in the city of Rising City, Nebraska, in Butler County, Nebraska, and Central Valley Ag in the city of Shelby, Nebraska, in Polk County, Nebraska.

Current Service Provider: Fremont Grain Inspection Department, Inc.

Area 22 (Formerly Known as Lincoln, Nebraska)

Description: In Iowa: Freemont, Mills (south of US-34 and west of I-29), and Page Counties.

In Nebraska: Cass, Gage, Jefferson, Johnson, Lancaster, Nemaha, Otoe, Pawnee, Richardson, Saline, Seward, Thayer (east of CR 5900, south of NE-8, and east of US-81), and York Counties.

Exclusion: The following grain elevator, which is located within the Lincoln, Nebraska, geographic area, is currently assigned to Omaha Grain Inspection Service, Inc., for official inspection services: Haveman Grain in Murray, Nebraska, in Cass County, Nebraska.

Current Service Provider: Lincoln Inspection Service, Inc.

Area 23 (Formerly Known as Council Bluffs, Iowa)

Description: In Iowa: Harrison (west of IA-183), Mills (east of I-29 and north of US-34), Monona (south of IA-175 and IA-37), Montgomery (west of CR 47 and IA-48), and Pottawattamie Counties.

In Nebraska: Douglas, Sarpy, Saunders (east of US-77), and Washington (south of NE-91 and US-30) Counties.

Exclusions: The following grain elevators, which are located within the Council Bluffs, Iowa, geographic area, are currently assigned to Fremont Grain Inspection Department, Inc., for official inspection services: Farmers Union Cooperative Association and Krumel Grain and Storage in the city of Wahoo, Nebraska, in Saunders County, Nebraska.

Current Service Provider: Omaha Grain Inspection Service, Inc.

Area 24 (Formerly Known as Baton Rouge, Louisiana)

Description: In Louisiana: The entire state of Louisiana.

Current Service Provider: Louisiana Department of Agriculture and Forestry.

Exports: All export waterborne carriers/vessels are serviced by FGIS.

Area 25 (Formerly Known as Annapolis, Maryland)

Description: In Maryland: The entire state of Maryland.

Current Service Provider: Maryland Department of Agriculture.

Exports: All export waterborne carriers/vessels are serviced by FGIS.

Area 26 (Formerly Known as Marshall, Michigan)

Description: In Michigan: Alcona, Alger, Allegan, Alpena, Antrim, Arenac, Baraga, Barry, Bay, Benzie, Branch, Calhoun, Charlevoix, Cheboygan, Chippewa, Clare, Clinton (west of US-127), Crawford, Delta, Dickenson, Eaton, Emmet, Gladwin, Gogebic, Grand Traverse, Gratiot, Hillsdale, Houghton, Huron (west of MI-53), Ingham (west of US-127), Ionia, Iosco, Iron, Isabella, Jackson (west of US-127), Kalamazoo, Kalkaska, Kent, Keweenaw, Lake, Leelanau, Luce, Mackinac, Manistee, Marquette, Mason, Mecosta, Menominee, Midland, Missaukee, Montcalm, Montmorency, Muskegon, Newaygo, Oceana, Ogemaw, Ontonagon, Osceola, Oscoda, Otsego, Ottawa, Presque Isle, Roscommon, Sanilac (west of MI-53 and north of MI-46), Schoolcraft, Shiawassee (north of MI-21 and west of MI-52), Tuscola (west of MI-15, north of Barnes Rd., west of Sheridan Rd., and north of MI-46), Saginaw, Van Buren, and Wexford Counties.

In Ohio: Allen, Auglaize, Defiance, Fulton, Hardin (west of US-68), Henry, Logan (west of US-68 and north of OH-47), Mercer, Paulding, Putnam, Shelby (north of OH-47 (and excluding all of Sidney, OH) and west of I-75), Van Wert, and Williams Counties.

Current Service Provider: Michigan Grain Inspection Services, Inc.

Area 27 (Formerly Known as Savage, Minnesota)

Description: In Minnesota: Blue Earth, Brown, Carver, Dakota, Dodge, Goodhue, Hennepin, Le Sueur, McLeod, Nicollet, Ramsey, Rice, Scott, Sibley, Steele, Waseca, Washington, and Watonwan Counties.

Current Service Provider: State Grain Inspection, Inc.

Area 28 (Formerly Known as Jamestown, North Dakota)

Description: In Minnesota: Anoka, Benton, Big Stone, Chippewa, Chisago, Douglas, Grant, Isanti, Kanabec, Kandiyohi, Lac Qui Parle, Meeker, Mille Lacs, Morrison, Pine, Pope, Sherburne, Stearns, Stevens, Swift, Todd, Traverse, and Wright Counties.

In North Dakota: Adams (northwest corner west of ND-22 and north of US-12), Barnes (west of ND-1, south of I-94), Billings (south of I-94 and east of US-85), Bowman (north of US-12), Burleigh, Dickey (west of ND-1, north/east of US-281), Dunn (south of ND-200), Eddy, Emmons (north of ND-13 to ND-83 then west of ND-83), Foster, Golden Valley (south of I-94), Grant (east of ND-49 to ND-21, north of ND-21), Griggs (west of ND-32, north and west of ND-45 to ND-200 then north of ND-200 and west of ND-1), Hettinger (north of ND-21, west of ND-22), Kidder, Lamoure (west of ND-1), Logan, McKenzie (southeast corner east of US-85, south of ND-200), McLean (east and south of ND-200, west of US Route 83, south and east of ND-41, south of ND-200), Mercer (south of ND-200), Morton, Oliver, Sheridan (south of ND-200), Sioux (east of ND-49), Slope (north of US-12), Stark (south of I-94 and east of US-85), Stutsman, and Wells (south of ND-200, east of ND-3) Counties.

Exclusion: The following grain elevator, which is located within the Jamestown, North Dakota, geographic area, is currently assigned to Minot Grain Inspection, Inc., for official inspection services: SRS Commodities in the city of Washburn, North Dakota in McLean County, North Dakota.

Current Service Provider: Grain Inspection, Inc. (Jamestown).

Area 29 (Formerly Known as Grand Forks, North Dakota)

Description: In Minnesota: Beltrami, Clearwater, Kittson, Lake of the Woods, Marshall, Pennington, Polk, Red Lake, and Roseau Counties.

In North Dakota: Benson, Cavalier, Grand Forks, Nelson, Pembina, Pierce (east of ND-3), Ramsey, Rolette, Towner, and Walsh Counties.

Current Service Provider: Northern Plains Grain Inspection Service, Inc.

Area 30 (Formerly Known as Wisconsin)

Current Service Provider: Wisconsin Department of Agriculture, Trade and Consumer Protection.

Exports: All export waterborne carriers/vessels in the state of Wisconsin are serviced by the Wisconsin Department of Agriculture, Trade and Consumer Protection, excluding the port of Milwaukee which is serviced by FGIS under special agreement. Wisconsin also services the port of Duluth in Minnesota under special agreement with FGIS.

Area 31 (Formerly Known as Jefferson City, Missouri)

Description: In Missouri: The entire state of Missouri.

Current Service Provider: Missouri Department of Agriculture.

Area 32 (Formerly Known as Helena, Montana)

Description: The entire state of Montana.

Current Service Provider: Montana Department of Agriculture.

Area 33 (Formerly Known as Hastings, Nebraska)

Description: In Nebraska: Adams, Antelope, Arthur, Blaine, Boone, Box Butte, Boyd, Brown, Buffalo, Chase, Cherry, Clay, Custer, Dawes, Dawson, Dundy, Fillmore, Franklin, Frontier, Furnas, Garden, Garfield, Gosper, Grant, Greeley, Hall, Hamilton, Harlan, Hayes, Hitchcock, Holt, Hooker, Howard, Kearney, Keith, Keya Paha, Knox, Lincoln, Logan, Loup, Madison (west of US-81), McPherson, Merrick, Morrill (east of US-385), Nance, Nuckolls, Perkins, Phelps, Red Willow, Rock, Sheridan, Sherman, Sioux, Thayer (west of US-81, north of NE-8 and west of CR 5900), Thomas, Valley, Webster, and Wheeler Counties.

Current Service Provider: Hastings Grain Inspection, Inc.

Area 34 (Formerly Known as Raleigh, North Carolina)

Description: In North Carolina: The entire state of North Carolina.

In South Carolina: Cherokee, Chester, Chesterfield, Darlington, Dillon, Florence, Greenville, Horry, Kershaw, Lancaster, Lee, Marion, Marlboro, Pickens, Spartanburg, Union, and York Counties.

Current Service Provider: North Carolina Department of Agriculture.

Exports: All export waterborne carriers/vessels are serviced by FGIS.

Area 35 (Formerly Known as Minot, North Dakota)

Description: In North Dakota: Billings (north of I-94 and west of US-85), Bottineau, Burke, Divide, Dunn (north of ND-200), Golden Valley (north of I-94), McHenry, McKenzie (except the area south of ND-200 and east of US-85), McLean (except the area south of ND-200 and west of US-83), Mercer (north of ND-200), Mountrail, Pierce (west of ND-3), Renville, Sheridan (north of ND-200), Stark (north of I-94 and west of US-85), Ward, Wells (north of ND-200 and west of ND-3) and Williams Counties.

Exclusion: The following grain elevator is part of this geographic area assignment in Grain Inspection, Inc.'s, (Jamestown) area: SRS Commodities in the city of Washburn, North Dakota, in McLean County, North Dakota.

Current Service Provider: Minot Grain Inspection, Inc.

Area 36 (Formerly Known as Aberdeen, South Dakota)

Description: In North Dakota (western section): Adams (north of US-12 and east of ND-22, entirety south of US-12), Bowman (south of US-12), Grant (west of ND-49 and south of ND-21), Hettinger (east of ND-22, south of ND-21), Sioux (west of ND-49), and Slope (south of US-12) Counties.

In North Dakota (eastern section): Dickey (west of US-281), Emmons (east of US-83 and south of ND-13), and McIntosh Counties.

In South Dakota: Aurora, Beadle, Bennett, Brookings, Brown, Brule, Buffalo, Butte, Campbell, Charles Mix (north of SD-44), Clark, Codington, Corson, Custer, Davison, Day, Deuel, Dewey, Douglas (north of SD-44), Edmunds, Fall River, Faulk, Grant, Gregory, Haakon, Hamlin, Hand, Hanson, Harding, Hughes, Hutchinson (north of SD-44), Hyde, Jackson, Jerauld, Jones, Kingsbury, Lake, Lawrence, Lincoln (north of SD-44, east of I-29, north of US-18, east of SD-11, north of CR 140, west of 486th Avenue South), Lyman, Marshall, McCook, McPherson, Meade, Mellette, Miner, Minnehaha, Moody, Pennington, Perkins, Potter, Roberts, Sanborn, Shannon, Spink, Stanley, Sully, Todd, Tripp, Turner (north of SD-44), Walworth, and Ziebach Counties.

Current Service Provider: Aberdeen Grain Inspection, Inc.

Area 37 (Formerly Known as Enid, Oklahoma)

Description: In Oklahoma: Adair, Alfalfa, Atoka, Beckham, Blaine, Bryan, Caddo, Canadian, Carter, Cherokee, Choctaw, Cleveland, Coal, Comanche, Cotton, Craig, Creek, Custer, Delaware, Dewey, Ellis, Garfield, Garvin, Grady, Grant, Greer, Harmon, Harper, Haskell, Hughes, Jackson, Jefferson, Johnston, Kay, Kingfisher, Kiowa, Latimer, Le Flore, Lincoln, Logan, Love, McClain, McCurtain, McIntosh, Major, Marshall, Mayes, Murray, Muskogee, Noble, Nowata, Okfuskee, Oklahoma, Okmulgee, Osage, Ottawa, Pawnee, Payne, Pittsburg, Pontotoc, Pottawatomie, Pushmataha, Roger Mills, Rogers, Seminole, Sequoyah, Stephens, Tillman, Tulsa, Wagoner, Washington, Washita, Woods, and Woodward Counties.

In Texas: Clay, Wichita, and Wilbarger Counties.

Current Service Provider: Enid Grain Inspection Company, Inc.

Area 38 (Formerly Known as Amarillo, Texas)

Description: In Oklahoma: Beaver, Cimarron, and Texas Counties.

In Texas: Armstrong (north of Prairie Dog Town Fork of the Red River), Carson, Childress, Collingsworth, Dallam, Deaf Smith (north of CR FM 1062 and east of US-385), Donley, Gray, Hall (east of US-287), Hansford, Hartley, Hemphill, Hutchinson, Lipscomb, Moore, Ochiltree, Oldham, Potter, Randall (north of Prairie Dog Town Fork of the Red River, TX-217, US-60 [Canyon], and Farm to Market (FM) 1062), Roberts, Sherman, and Wheeler Counties.

Current Service Provider: Amarillo Grain Exchange, Inc.

Area 39 (Formerly Known as Salem, Oregon)

Description: Commodity and/or rice inspections in the entire state of Oregon.

Current Service Provider: Oregon Department of Agriculture.

Area 40 (Formerly Texas Central)

Description: In Texas: Anderson, Angelina, Atascosa, Austin, Bandera, Bastrop, Bell, Bexar, Blanco, Bosque, Brazos, Brewster, Brown, Burleson, Burnet, Caldwell, Camp, Cherokee, Collin, Comal, Comanche, Concho, Cooke, Coryell, Crane, Crockett, Culberson, Dallas, Delta, Denton, DeWitt, Eastland, Edwards, Ellis, El Paso, Erath, Falls, Fannin, Fayette, Franklin, Freestone, Frio, Gillespie, Gonzales, Grayson, Gregg, Grimes, Guadalupe, Hamilton, Hardin, Harrison, Hays, Henderson, Hill, Hood, Hopkins, Houston, Hudspeth, Hunt, Irion, Jack, Jasper, Jeff Davis, Johnson, Karnes, Kaufman, Kendall, Kerr, Kimble, Kinney, Lamar, Lampasas, Lavaca, Lee, Leon, Liberty, Limestone, Llano, Loving, McCulloch, McLennan, Madison, Marion, Mason, Maverick, Medina, Menard, Milam, Mills, Montague, Montgomery, Morris, Nacogdoches, Navarro, Newton, Orange, Palo Pinto, Panola, Parker, Pecos, Polk, Presidio, Rans, Reagan, Real, Red River, Reeves, Robertson, Rockwall, Rusk, Sabine, San Augustine, San Jacinto, San Saba, Schleicher, Shelby, Smith, Somervell, Stephens, Sutton, Tarrant, Terrell, Titus, Tom Green, Travis, Trinity, Tyler, Upshur, Upton, Uvalde, Val Verde, Van Zandt, Walker, Ward, Washington, Williamson, Wilson, Wise, Wood, Young, and Zavala Counties.

Current Service Provider: Grain Inspection Services of Texas, LLC.

Area 41 (Formerly Known as Plainview, Texas)

Description: In Texas: Andrews, Archer, Armstrong (south of the Prairie Dog Town Fork of the Red River), Bailey, Baylor, Borden, Briscoe, Callahan, Castro, Cochran, Coke, Coleman, Cottle, Crosby, Dawson, Deaf Smith (south of CR FM 1062 and west of US-385), Dickens, Ector, Fisher, Floyd, Foard, Gaines, Garza, Glasscock, Hale, Hall (west of US-287), Hardeman, Haskell, Hockley, Howard, Jones, Kent, King, Knox, Lamb, Lubbock, Lynn, Martin, Midland, Mitchell, Motley, Nolan, Parmer, Randall (south of CR FM 1062, US-60, TX-217 and the Prairie Dog Town Fork of the Red River), Runnels, Scurry, Shackelford, Sterling, Stonewall, Swisher, Taylor, Terry, Throckmorton, Winkler, and Yoakum Counties.

Current Service Provider: Plainview Grain Inspection and Weighing Service, Inc.

Area 42 (Formerly Known as Salt Lake City, Utah)

Description: In Utah: The entire state of Utah.

Current Service Provider: Utah Department of Agriculture and Food.

Area 43 (Formerly Known as Richmond, Virginia)

Description: In Virginia: The entire Commonwealth of Virginia.

Current Service Provider: Virginia Department of Agriculture and Consumer Services.

Exports: All exports including export waterborne carriers/vessels are serviced by the Virgina Department of Agriculture and Consumer services.

Area 44 (Formerly Known as Cheyenne, Wyoming)

Description: Commodity and/or rice inspections in the entire state of Wyoming.

Current Service Provider: Wyoming Department of Agriculture.

Melissa Bailey,
Associate Administrator, Agricultural Marketing Service.

[FR Doc. 2025-12487 Filed 7-2-25; 8:45 am]

BILLING CODE P